DEPARTMENT OF TRANSPORTATION

Federal Aviation Administration

14 CFR Part 39

[Docket No. FAA-2017-0154; Directorate Identifier 2016-SW-069-AD; Amendment 39-18814; AD 2017-05-04]

RIN 2120-AA64

Airworthiness Directives; Bell Helicopter Textron Canada Limited Helicopters

AGENCY: Federal Aviation Administration (FAA), Department of Transportation (DOT).

ACTION: Final rule; request for comments.

SUMMARY: We are adopting a new airworthiness directive (AD) for certain Bell Helicopter Textron Canada Limited (BHTC) Model 206 helicopters. This AD requires removing certain tension-torsion straps (TT straps) from service and is prompted by reports of corroded TT straps. These actions are intended to prevent an unsafe condition on these products.

DATES: This AD becomes effective March 17, 2017.

We must receive comments on this AD by May 1, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2017-0154; or in person at the Docket Operations Office between 9 a.m. and 5 p.m., Monday through Friday, except Federal holidays. The AD docket contains this AD, the Transport Canada AD, the economic evaluation, any comments received, and other information. The street address for the Docket Operations Office (telephone 800-647-5527) is in the ADDRESSES section. Comments will be available in the AD docket shortly after receipt.

For service information identified in this final rule, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 10101 Hillwood Pkwy., Room 6N-321, Fort Worth, TX 76177.

FOR FURTHER INFORMATION CONTACT: Matt Fuller, Senior Aviation Safety Engineer, Safety Management Group, Rotorcraft Directorate, FAA, 10101 Hillwood Pkwy., Fort Worth, TX 76177; telephone (817) 222-5110; email matthew.fuller@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

On March 21, 2016, Transport Canada issued AD No. CF-2016-09 to correct an unsafe condition for BHTC Model 206A, 206B, 206L, 206L1, 206L3, and 206L4 helicopters with TT straps with part number (P/N) 206-011-147-005, serial numbers BTFS-23868 through BTFS-24277; and P/N 206-011-147-007, serial numbers BT-22719 through BT-23437. Transport Canada advises that these TT straps may develop cracks in the urethane protective coating, which may result in internal corrosion of the TT straps and subsequent failure of the TT straps prior to their approved airworthiness life limit. Transport Canada further states that because this unsafe condition is limited in scope to these particular part-numbered TT straps, a revision to the airworthiness limitations schedule is unnecessary. To correct the unsafe condition, AD No. CF-2016-09 requires, within 25 hours air time, removing from service affected TT straps that have reached or exceeded 1,000 hours air time or 18 months in service, whichever occurs first from when the rotor hub containing the affected part is installed on the helicopter.

FAA's Determination

These helicopters have been approved by the aviation authority of Canada and are approved for operation in the United States. Pursuant to our bilateral agreement with Canada, Transport Canada, its technical representative, has notified us of the unsafe condition described in its AD. We are issuing this AD because we evaluated all information provided by Transport Canada and determined the unsafe condition exists and is likely to exist or develop on other helicopters of these same type designs.

Related Service Information

Bell Helicopter has issued Alert Service Bulletin (ASB) 206-13-130, Revision A, dated October 14, 2013, for Model 206A, 206B, and TH67 helicopters and ASB 206L-13-171, Revision A, dated October 14, 2013, for Model 206L series helicopters. Each ASB specifies removing the affected TT straps from service TT straps when they reach 1,000 hours or 18 months, whichever occurs first.

AD Requirements

For affected TT straps that have 1,000 or more hours time-in-service (TIS) or 18 or more months since installation, this AD requires removing the TT strap from service within 25 hours TIS. For all other affected TT straps, this AD requires removing the TT strap from service before accumulating 1,000 hours TIS or 18 months since installation, whichever occurs first.

Costs of Compliance

We estimate that this AD affects 1,740 helicopters of U.S. Registry.

We estimate that operators may incur the following costs in order to comply with this AD. At an average labor rate of $85 per hour, replacing a TT strap will require 3 work-hours, and required parts will cost $4,827, for a cost per helicopter of $5,082 and a cost of $8,842,680 for the U.S. fleet.

According to BHTC's service information, some of the costs of this AD may be covered under warranty, thereby reducing the cost impact on affected individuals. We do not control warranty coverage by BHTC. Accordingly, we have included all costs in our cost estimate.

FAA's Justification and Determination of the Effective Date

Providing an opportunity for public comments prior to adopting these AD requirements would delay implementing the safety actions needed to correct this known unsafe condition. Therefore, we find that the risk to the flying public justifies waiving notice and comment prior to the adoption of this rule because the actions required by this AD must be accomplished within 25 hours TIS, a very short interval for helicopters used in offshore operations.

Since an unsafe condition exists that requires the immediate adoption of this AD, we determined that notice and opportunity for public comment before issuing this AD are impracticable and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-05-04 Bell Helicopter Textron Canada Limited: Amendment 39-18814; Docket No. FAA-2017-0154; Directorate Identifier 2016-SW-069-AD.

(a) Applicability

This AD applies to Bell Helicopter Textron Canada Limited Model 206A, 206B, 206L, 206L1, 206L3, and 206L4 helicopters, certificated in any category, with a tension-torsion strap (TT strap) part number (P/N) 206-011-147-005 with a serial number BTFS-23868 through BTFS-24277 or P/N 206-011-147-007 with a serial number BT-22719 through BT-23437 installed.

(b) Unsafe Condition

This AD defines the unsafe condition as corrosion of a TT strap. This condition could result in failure of the TT strap and subsequent loss of control of the helicopter.

(c) Effective Date

This AD becomes effective March 17, 2017.

(d) Compliance

You are responsible for performing each action required by this AD within the specified compliance time unless it has already been accomplished prior to that time.

(e) Required Actions

Within 25 hours time-in-service (TIS), remove from service any TT strap that has 1,000 or more hours TIS or 18 or more months since installation. Thereafter, remove from service any TT strap before accumulating 1,000 hours TIS or 18 months since installation, whichever occurs first.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy., Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

(1) Bell Helicopter Alert Service Bulletin (ASB) No. 206-13-130, Revision A, dated October 14, 2013 for model 206A, 206B, and TH67 helicopters and ASB 206L-13-171, Revision A, dated October 14, 2013 for model 206L series helicopters, which are not incorporated by reference, contain additional information about the subject of this final rule. For service information identified in this final rule, contact Bell Helicopter Textron Canada Limited, 12,800 Rue de l'Avenir, Mirabel, Quebec J7J1R4; telephone (450) 437-2862 or (800) 363-8023; fax (450) 433-0272; or at http://www.bellcustomer.com/files/. You may review a copy of the service information at the FAA, Office of the Regional Counsel, Southwest Region, 10101 Hillwood Pkwy., Room 6N-321, Fort Worth, TX 76177.

(2) The subject of this AD is addressed in Transport Canada AD No. CF-2016-09, dated March 21, 2016. You may view the Transport Canada AD on the Internet at http://www.regulations.gov by searching for and locating it in Docket No. FAA-2017-0154.

(h) Subject

Joint Aircraft Service Component (JASC) Code: 6220 Tension Torsion Strap.

Issued in Fort Worth, Texas, on February 17, 2017.
Lance T. Gant,
Manager, Rotorcraft Directorate, Aircraft Certification Service.

[FR Doc. 2017-03954 Filed 3-1-17; 8:45 am]

BILLING CODE 4910-13-P